DEPARTMENT OF HOMELAND SECURITY

Federal Emergency Management Agency

[Docket ID FEMA-2024-0002; Internal Agency Docket No. FEMA-B-2489]

Proposed Flood Hazard Determinations

AGENCY: Federal Emergency Management Agency, Department of Homeland Security.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP).

DATES: Comments are to be submitted on or before April 8, 2025.

ADDRESSES: The Preliminary FIRM, and where applicable, the FIS report for each community are available for inspection at both the online location https://hazards.fema.gov/femaportal/prelimdownload and the respective Community Map Repository address listed in the tables below. Additionally, the current effective FIRM and FIS report for each community are accessible online through the FEMA Map Service Center at https://msc.fema.gov for comparison.

You may submit comments, identified by Docket No. FEMA-B-2489, to Rick Sacbibit, Chief, Engineering Services Branch, Federal Insurance and Mitigation Administration, FEMA, 400 C Street SW, Washington, DC 20472, (202) 646-7659, or (email) patrick.sacbibit@fema.dhs.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at https://www.floodsrp.org/pdfs/srp_overview.pdf.

The watersheds and/or communities affected are listed in the tables below. The Preliminary FIRM, and where applicable, FIS report for each community are available for inspection at both the online location https://hazards.fema.gov/femaportal/prelimdownload and the respective Community Map Repository address listed in the tables. For communities with multiple ongoing Preliminary studies, the studies can be identified by the unique project number and Preliminary FIRM date listed in the tables. Additionally, the current effective FIRM and FIS report for each community are accessible online through the FEMA Map Service Center at https://msc.fema.gov for comparison.

(Catalog of Federal Domestic Assistance No. 97.022, “Flood Insurance.”)

Nicholas A. Shufro,
Assistant Administrator (Acting) for Risk Management, Federal Emergency Management Agency, Department of Homeland Security.

Community | Community map repository address
Boone County, Nebraska and Incorporated Areas
Project: 23-07-0052S Preliminary Date: October 18, 2024
City of Albion | City Office, 420 West Market Street, Albion, NE 68620.
City of St. Edward | City Hall, 1302 State Highway 39, St. Edward, NE 68660.
Unincorporated Areas of Boone County | Boone County Courthouse, 222 South 4th Street, Albion, NE 68620.
Village of Cedar Rapids | City Hall, 425 West Main Street, Cedar Rapids, NE 68627.
Village of Petersburg | Village Office, 203 East Widaman Avenue, Petersburg, NE 68652.
Village of Primrose | Village Hall, 229 Commercial Street, Primrose, NE 68655.
Caldwell County, Texas and Incorporated Areas
Project: 24-06-0048S Preliminary Date: August 16, 2024
City of Lockhart | City Hall, 308 West San Antonio Street, Lockhart, TX 78644.
City of Luling | City Hall, 509 East Crockett Street, Luling, TX 78648.
City of Mustang Ridge | Mustang Ridge City Offices, 12800 U.S. Highway 183 South, Buda, TX 78610.
City of Niederwald | City Hall, 8807 Niederwald Strasse, Niederwald, TX 78640.
City of San Marcos | Engineering Department City Hall, 630 East Hopkins Street, San Marcos, TX 78666.
City of Uhland | City Hall, 15 North Old Spanish Trail, Uhland, TX 78640.
Unincorporated Areas of Caldwell County | Caldwell County Sanitation Department, 1700 FM 2720, Lockhart, TX 78644.
Morris County, Texas and Incorporated Areas
Project: 23-06-0040S Preliminary Date: September 18, 2024
City of Daingerfield | City Hall, 101 Linda Drive, Daingerfield, TX 75638.
City of Hughes Springs | City Hall, 603 East 1st Street, Hughes Springs, TX 75656.
City of Lone Star | City Hall, 200 West Industrial Boulevard, Lone Star, TX 75668.
City of Naples | City Hall, 205 Main Street, Naples, TX 75568.
City of Omaha | City Hall, 305 White Oak Avenue, Omaha, TX 75571.
Unincorporated Areas of Morris County | Morris County Courthouse, 500 Broadnax Street, Suite B, Daingerfield, TX 75638.
Panola County, Texas and Incorporated Areas
Project: 23-06-0056S Preliminary Date: August 19, 2024
City of Beckville | City Hall, 211 South Washington Street, Beckville, TX 75631.
City of Carthage | City Hall, 812 West Panola Street, Carthage, TX 75633.
City of Gary | City Hall, 2607 FM 999, Gary, TX 75643.
City of Tatum | City Hall, 680 Crystal Farms Road, Tatum, TX 75691.
Unincorporated Areas of Panola County | Panola County Annex Building, 316 West Sabine Street, Carthage, TX 75633.
Trinity County, Texas and Incorporated Areas
Project: 23-06-0043S Preliminary Date: August 28, 2024
City of Groveton | City Hall, 115 West Front Street, Groveton, TX 75845.
City of Trinity | City Hall, 101 West Madison Street, Trinity, TX 75862.
Unincorporated Areas of Trinity County | Trinity County Courthouse, 162 West 1st Street, Groveton, TX 75845.

[FR Doc. 2025-00246 Filed 1-7-25; 8:45 am]

BILLING CODE 9110-12-P